GENERAL SERVICES ADMINISTRATION

[OMB Control No. 3090-XXXX; Docket No. 2022-0001; Sequence No. 16]

GSA Equity Study on Remote Identity Proofing; Correction

Correction

In the FR Doc. 2023-06174, appearing on page 18139, in the issue of Monday, March 27, 2023, make the following correction:

On page 18139, in the second column, in the SUPPLEMENTARY INFORMATION section, “FR Doc. 2023-03131” should read “FR Doc. 2023-02918”.

Lois Mandell,
Director, Regulatory Secretariat Division.

[FR Doc. 2023-06711 Filed 3-30-23; 8:45 am]

BILLING CODE 6820-34-P